DEPARTMENT OF HEALTH AND HUMAN SERVICES

Meeting of the National Biodefense Science Board

AGENCY: Department of Health and Human Services, Office of the Secretary.

ACTION: Notice.

SUMMARY: As stipulated by the Federal Advisory Committee Act, the U.S. Department of Health and Human Services is hereby giving notice that the National Biodefense Science Board (NBSB) will be holding a public meeting. The meeting is open to the public.

DATES: The NBSB will hold a public meeting on November 18, 2008 from 8:30 a.m. to 5 p.m. EST and on November 19, 2008 from 8:30 a.m. to 12:30 p.m.

ADDRESSES: The Sheraton National Hotel, 900 S. Orme Street, Arlington, VA 22204.

Phone: 703-521-1900.

FOR FURTHER INFORMATION CONTACT: CAPT Leigh A. Sawyer, D.V.M., M.P.H., Executive Director, National Biodefense Science Board, Office of the Assistant Secretary for Preparedness and Response, U.S. Department of Health and Human Services, 200 Independence Ave., SW., Room 638G, Washington, DC 20201; 202-205-3815; fax: 202-205-0613; e-mail address: leigh.sawyer@hhs.gov.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

The NBSB will consider recommendations prepared by the Disaster Mental Health Subcommittee. The Subcommittee was established by the NBSB to help fulfill the requirement of HSPD-21, paragraph 31, which directs the Secretary, U.S. Department of Health and Human Services, to convene a committee of subject matter experts and, to submit to the Secretary of Health and Human Services recommendations for protecting, preserving, and restoring individual and community mental health in catastrophic health event settings, including pre-event, intra-event, and post-event education, messaging, and interventions.

Additional topics will be considered during the public meeting. A tentative schedule will be made available on November 1, 2008 at the NBSB Web site, http://www.hhs.gov/aspr/omsph/nbsb. This agenda is subject to change as priorities dictate.

Any member of the public interested in presenting oral comments at the meeting may notify the Contact person listed on this notice by November 10, 2008. Interested individuals and representatives of an organization may submit a letter of intent and a brief description of the organization represented. In addition, any interested person may file written comments with the committee. All written comments must be received prior to November 10, 2008 and should be sent by e-mail with “NBSB Public Comment” as the subject line or by regular mail to the Contact person listed above. Individuals who plan to attend and need special assistance, such as sign language interpretation or other reasonable accommodations, should notify the designated contact person.

August 8, 2008.
William C. Vanderwagen,
Assistant Secretary for Preparedness and Response, U.S. Department of Health and Human Services.

[FR Doc. E8-24843 Filed 10-17-08; 8:45 am]

BILLING CODE 4150-37-P